DEPARTMENT OF THE INTERIOR

Bureau of Land Management

[ID-957-1430-BJ]

Idaho: Filing of Plats of Survey

AGENCY: Bureau of Land Management, Interior.

ACTION: Notice.

SUMMARY: The plats of the following described lands were officially filed in the Idaho State Office, Bureau of Land Management, Boise, Idaho, effective 9 a.m., on the dates specified:

The plat representing the entire survey record of the dependent resurvey of a portion of the subdivisional lines, T. 5 N., R. 1 E., Boise Meridian, Idaho, Group Number 1092, was accepted October 2, 2000. The plat was prepared to meet certain administrative needs of the Bureau of Land Management.

The plat representing the dependent resurvey of a portion of the east boundary and of the subdivisional lines, and the subdivision of section 36, T. 2 S., R. 36 E., Boise Meridian, Idaho, and the plat representing the dependent resurvey of portions of the east and north boundaries, and the subdivisional lines, and the subdivision of sections 13, 14, and 24, T. 3 S., R. 36 E., Boise Meridian, Idaho, Group Number 999, were accepted November 6, 2000. The plats were prepared to meet certain administrative needs of the Bureau of Indian Affairs, Fort Hall Agency.

FOR FURTHER INFORMATION CONTACT: Duane Olsen, Chief, Cadastral Survey, Idaho State Office, Bureau of Land Management, 1387 South Vinnell Way, Boise, Idaho 83709-1657, 208-373-3980.

Dated: January 3, 2001.
Harry K. Smith,
Acting Chief, Cadastral Surveyor for Idaho.

[FR Doc. 01-1395 Filed 1-17-01; 8:45 am]

BILLING CODE 4310-GG-P